DEPARTMENT OF DEFENSE

Department of the Army

Notice of Availability (NOA) of the Fort Bliss, TX and New Mexico, Mission and Master Plan Final Programmatic Environmental Impact Statement (PEIS)

AGENCY: Department of the Army, DoD.

ACTION: Notice of availability.

SUMMARY: This announces the availability of the Fort Bliss Mission and Master Plan Final PEIS. The Final PEIS describes potential environmental impacts and mitigation actions associated with land use and management proposals regarding installation assets, capabilities, and infrastructure to support current and future missions. These proposed decisions are reflected in the Real Property Master Plan, the Integrated Natural Resources Management Plan, the Integrated Cultural Resources Management Plan, and land use designations and activities designated in the Training Area Development Concept and other installation initiatives.

DATES: The review period for the Final PEIS will end 30 days after publication of the NOA in the Federal Register by the U. S. Environmental Protection Agency.

ADDRESSES: To obtain copies of the Final PEIS, contact Dr. Brian Locke, U. S. Army Air Defense Artillery Center and Fort Bliss, Directorate of the Environment, ATTN: ATZC-DOC-C (PEIS), Building 624 North, Pleasonton Road, Fort Bliss, TX 79916-6812, or e-mail: PEIS@emh10.bliss.army.mil.

FOR FURTHER INFORMATION CONTACT: Dr. Brian Locke at (915) 568-3016.

SUPPLEMENTARY INFORMATION: The Final PEIS includes analyses of the environmental consequences that each of four alternatives may have on land use, infrastructure, airspace, earth resources, air quality, water resources, biological resources, cultural resources, noise, safety, hazardous materials, socioeconomics, and environmental justice. The findings indicate that potential environmental impacts from each alternative may include changes to land use, increased soil erosion, and impacts to biological and cultural resources. Cumulative impacts may occur to land use, biological resources, soils, and water resources. The level of military training use may increase under Alternatives 2 and 3. Improved cultural and natural resource management practices are proposed within their respective management plans and are expected to reduce the impacts of military training.

Public comment regarding environmental impacts centered on two principal issues: (1) Continuing availability of public access to the training complex for a variety of recreational and non-military purposes; and (2) impacts to vegetation and other natural resources arising from military training activities.

The alternatives to No Action (no implementation of Army short- and long-range plans or resource management plans, the current Fort Bliss missions, certain planned developments, and on-going maintenance activity) considered in this Final PEIS are as follows:

Alternative 1 incorporates the current missions assigned to Fort Bliss as described in the No Action Alternative. Beyond this, Alternative 1 would adopt recent updates to components of the Fort Bliss Real Property Master Plan, which includes the Long-range Component, Short-range Component, the Power Projection Platform Capital Investment Strategy, and informal modifications to the Mobilization Component. Also to be adopted under Alternative 1 are the Integrated Natural Resources Management Plan, the Integrated Cultural Resource Management Plan and a supplement to the Long-range Component. This includes adoption of a definitive training area land use plan for the Fort Bliss Training Complex as designated in Chapter 3.0—Current Conditions, of the Fort Bliss Training Area Development Concept. Adoption of these plans would authorize the steps leading to program and appropriate project implementation as described in the Final PEIS.

Alternative 2 includes all actions in Alternative 1 and additionally would increase, by approximately 13.5 square miles, the availability of controlled access Field Training Exercise sites on the McGregor Range portion of the Fort Bliss Training Complex. If Alternative 2 is adopted programmatically, environmental impacts of these additional proposed Field Training Exercise sites will be specifically evaluated in a separate environmental document(s) that may be tiered from this Final PEIS.

Alternative 3 is the Army's preferred alternative and includes all actions in Alternatives 1 and 2 and additionally would adopt the training uses of the Fort Bliss Training Complex as presented in Chapter 4.0—Future Development Concept, of the Fort Bliss Training Area Development Concept. If approved programmatically, evaluation of specific projects proposed in the future will be evaluated in a separate environmental document(s).

The revised Long-range Component of the Fort Bliss Real Property Master Plan, the Integrated Natural Resources Management Plan, the Integrated Cultural Resource Management Plan, and the Training Area Development Concept are available for review in the following libraries: El Paso Public Library Main Library, 501 North, Oregon Street, El Paso, TX; Irving Schwartz Branch, El Paso Public Library, 1865 Dean Martin Drive, El Paso, TX; Westside Branch, El Paso Public Library, 125 Belvidere Street, El Paso, TX; Branigan Memorial Library, 200 E Picacho Avenue, Las Cruces, NM; Library, Dell City, TX; Library, 920 Oregon, Alamogordo, NM; New Mexico State University Branson Library, Frenger at Williams, Las Cruces, NM; New Mexico State University, Roswell, Library, 52 University Boulevard, Roswell, NM; University of Texas at El Paso Library, 500 West University Avenue, El Paso, TX; and Library, 20 Curfew Place, Cloudcroft, NM.

Dated: March 7, 2001.
Raymond J. Fatz,
Deputy Assistant Secretary of the Army, (Environment, Safety and Occupational Health) OASA(I&E).

[FR Doc. 01-6186 Filed 3-12-01; 8:45 am]

BILLING CODE 3710-08-M